DEPARTMENT OF THE TREASURY

Submission for OMB Review; Comment Request

AGENCY: Department of the Treasury.

ACTION: Notice.

The Department of the Treasury will submit the following information collection request to the Office of Management and Budget (OMB) for review and clearance in accordance with the Paperwork Reduction Act of 1995, Public Law 104-13, on or after the date of publication of this notice.

DATES: Comments should be received on or before May 26, 2015 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8141, Washington, DC 20220, or email at PRA@treasury.gov.

FOR FURTHER INFORMATION CONTACT: Copies of the submission(s) may be obtained by emailing PRA@treasury.gov, calling (202) 622-1295, or viewing the entire information collection request at www.reginfo.gov.

Financial Crimes Enforcement Network (FinCEN)

OMB Number: 1506-0013.

Type of Review: Extension without change of a currently approved collection.

Title: Registration of Money Services Business, 31 CFR 1022.380.

Form: FinCEN Form 107.

Abstract: Money services businesses file Form 107 to register with the Department of the Treasury pursuant to 31 U.S.C. 5330 and 31 CFR 1022.380. The information on the form is used by criminal investigators, and taxation and regulatory enforcement authorities, during the course of investigations involving financial crimes.

Affected Public: Private Sector: Businesses or other for-profits.

Estimated Annual Burden Hours: 44,300.

OMB Number: 1506-0015.

Type of Review: Extension without change of a currently approved collection.

Title: Suspicious Activity Report by Money Services Business.

Abstract: Regulations under 31 CFR 1022.320 require Money Services Business' (MSB) to report suspicious transactions to the Department of the Treasury. The administrative burden of one hour is assigned to maintain the regulatory requirement in force. The burden for actual reporting is reflected in OMB Control number 1506-0065.

Affected Public: Private Sector: Businesses or other for-profits.

Estimated Annual Burden Hours: 1.

OMB Number: 1506-0061.

Type of Review: Extension without change of a currently approved collection.

Title: Suspicious Activity Report Filing Requirements for Residential Mortgage Lenders and Originators.

Abstract: FinCEN, a bureau of the Department of the Treasury, issued rules defining non-bank residential mortgage lenders and originators as loan or finance companies for the purpose of requiring them to establish anti-money laundering (AML) programs and suspicious activities report (SAR) under the Bank Secrecy Act. This information collection identifies burden associated with SAR. The administrative burden of one hour is assigned to maintain the regulatory requirement in force. The burden for actual reporting is reflected in OMB Control number 1506-0065.

Affected Public: Private Sector: Businesses or other for-profits.

Estimated Annual Burden Hours: 1.

Dated: April 20, 2015.
Dawn D. Wolfgang,
Treasury PRA Clearance Officer.

[FR Doc. 2015-09483 Filed 4-22-15; 8:45 am]

BILLING CODE 4810-02-P